DEPARTMENT OF THE INTERIOR

Bureau of Land Management

[LLAZ9120000 L12200000 AL0000 6100.241A0]

State of Arizona Resource Advisory Council Meeting

AGENCY: Bureau of Land Management, Interior.

ACTION: Notice of Arizona Resource Advisory Council Meeting.

SUMMARY: In accordance with the Federal Land Policy and Management Act of 1976 and the Federal Advisory Committee Act of 1972, the U.S. Department of the Interior, Bureau of Land Management (BLM), Arizona Resource Advisory Council (RAC), will meet on June 25, 2009, at the BLM National Training Center located at 9828 North 31st Avenue in Phoenix from 8 a.m. until 4:30 p.m. Morning agenda items include: Review and approval of the March 26, 2009, meeting minutes for RAC and Recreation Resource Advisory Council (RRAC) business; BLM State Director's update on statewide issues; Update on Solar Energy Rights-of-Way Applications, and the Arizona Renewable Resources and Transportation Information System Project; a presentation on Mapping Land Health Achievements and Non-Achievements on BLM Lands: Improving Land Management, Planning, and Reporting of Land Condition; RAC review and discussion of the 2009 RAC Annual Work Plan; questions on BLM District/Field Manager reports; and reports by the RAC working groups. A public comment period will be provided at 11:30 a.m. on June 25, 2009, for any interested publics who wish to address the Council on BLM programs and business.

Under the Federal Lands Recreation Enhancement Act, the RAC has been designated as the RRAC, and has the authority to review all BLM and Forest Service (FS) recreation fee proposals in Arizona. The afternoon meeting agenda on June 25 will include review and discussion of the Recreation Enhancement Act (REA) Working Group Report, and one BLM fee proposal in Arizona.

The BLM Kingman Field Office is proposing to increase fees for use of its recreation facilities beginning October 1, 2009. The fee sites and proposed changes are: Burro Creek Individual Sites ($10 to $14), Burro Creek Group Site ($30 to $50), Wild Cow Springs Individual Sites ($5 to $8), Wild Cow Springs Group Site ($15 to $20), and Windy Point Individual Sites ($4 to $8). The purpose of the BLM fee increase is to continue maintenance and improve its campground facilities.

Following the BLM proposal, the RRAC will open the meeting to public comments on the fee proposal. After completing their RRAC business, the BLM RAC will reconvene to provide recommendations to the RAC Designated Federal Official on the fee proposal and discuss future RAC meetings and locations.

DATES: Effective Date: June 25, 2009.

FOR FURTHER INFORMATION CONTACT: Deborah Stevens, Bureau of Land Management, Arizona State Office, One North Central Avenue, Suite 800, Phoenix, Arizona 85004-4427, 602-417-9504.

Joanie Losacco,
Acting Arizona State Director.

[FR Doc. E9-12528 Filed 5-28-09; 8:45 am]

BILLING CODE 4310-32-P